DEPARTMENT OF DEFENSE

Department of the Air Force

Air Force Scientific Advisory Board Notice of Meeting

AGENCY: Department of the Air Force, U.S. Air Force Scientific Advisory Board

ACTION: Meeting Notice.

SUMMARY: Under the provisions of the Federal Advisory Committee Act of 1972 (5 U.S.C., Appendix, as amended), the Government in the Sunshine Act of 1976 (5 U.S.C. 552b, as amended), and 41 CFR 102-3.150, the Department of Defense announces that the United States Air Force Scientific Advisory Board (SAB) meeting will take place 13 to 14 October 2011 at SAFTAS Conference and Innovation Center, 1550 Wilson Blvd., Arlington, VA 22209. The meeting on Wednesday, 13 October, will be from 7:15 a.m.-4:30 p.m., with the sessions from 8:45 a.m. to 9:45 a.m. and 1:15 p.m. to 2:15 p.m. open to the public. The banquet from 8 p.m. to 9 p.m. on 13 October at the Army Navy Country Club in Arlington, VA will also be open to the public. The meeting on Thursday, 14 October, will be from 8 a.m.-11:30 a.m. and closed to the public in its entirety.

The purpose of this Air Force Scientific Advisory Board quarterly meeting is to introduce the FY12 SAB study topics tasked by the Secretary of the Air Force and receive presentations that address relevant subjects to the SAB mission to include introduction of the new Board members for FY12, status of FY11 studies and the FY12 Board schedule; the Air Force's high dependence on space for navigation, timing, communications, weather, and intelligence, surveillance, reconnaissance; increased space asset vulnerability; latest updates on the ongoing Aircraft Oxygen Generation Study by the Board; Air Force Global Strike Command overview highlighting high priority capability gaps and technology solution partnerships; Air Force Research Laboratory overview focusing on the Air Force Science and Technology plan emphasizing next generation energy, autonomy, sustainment, cyber, and ISR capabilities; improving the value of intelligence data collection and maximizing timely insight and safe and secure cyber ops; acquisition challenges amid new era of defense policy and lessons learned from challenged acquisition programs; and balancing today's needs with tomorrow's challenges to prepare for full-spectrum operations.

In accordance with 5 U.S.C. 552b, as amended, and 41 CFR 102-3.155, The Administrative Assistant of the Air Force, in consultation with the Air Force General Counsel, has agreed that the public interest requires some sessions of the United States Air Force Scientific Advisory Board meeting be closed to the public because they will discuss information and matters covered by sections 5 U.S.C. 552b(c)(1).

Any member of the public wishing to provide input to the United States Air Force Scientific Advisory Board should submit a written statement in accordance with 41 CFR 102-3.140(c) and section 10(a)(3) of the Federal Advisory Committee Act and the procedures described in this paragraph. Written statements can be submitted to the Designated Federal Officer at the address detailed below at any time. Statements being submitted in response to the agenda mentioned in this notice must be received by the Designated Federal Officer at the address listed below at least five calendar days prior to the meeting which is the subject of this notice. Written statements received after this date may not be provided to or considered by the United States Air Force Scientific Advisory Board until its next meeting. The Designated Federal Officer will review all timely submissions with the United States Air Force Scientific Advisory Board Chairperson and ensure they are provided to members of the United States Air Force Scientific Advisory Board before the meeting that is the subject of this notice.

FOR FURTHER INFORMATION CONTACT: The United States Air Force Scientific Advisory Board Executive Director and Designated Federal Officer, Lt. Col. Matthew E. Zuber, 301-981-7135, United States Air Force Scientific Advisory Board, 1602 California Ave., Ste. #251, Andrews AFB, MD 20762, matthew.zuber@pentagon.af.mil.

Bao-Anh Trinh,
DAF, Air Force Federal Register Liaison Officer.

[FR Doc. 2011-23615 Filed 9-14-11; 8:45 am]

BILLING CODE 5001-10-P